Proclamation 10824 of September 30, 2024

National Cybersecurity Month, 2024

By the President of the United States of America

A Proclamation

Defending our digital world is essential to ensuring the safety and security of our Nation and the American people. During National Cybersecurity Month, we recommit to protecting our data and technologies from malicious hackers and cyber threats. We encourage all Americans to learn more about cybersecurity. And we promise to ensure that America can realize the positive impacts of our digital future.

My Administration is committed to securing the digital ecosystems that touch nearly every aspect of American life. That is why I released the National Cybersecurity Strategy, which lays out 100 actions the Federal Government, along with our public and private sector partners, is taking to defend our increasingly digital world. This strategy aims to ensure primary responsibility for creating a safe digital future is borne by technology companies and the Federal Government, entities that are most capable and best-positioned to reduce cyber-related risks for all of us. I have signed Executive Orders to secure the digital infrastructure of the Nation's ports, fortify our supply chains, and strengthen our industrial base. Furthermore, my Administration launched the “U.S. Cyber Trust Mark” program, which works with leading product manufacturers and retailers to ensure Americans have the option of choosing safer smart devices. Through executive action, we are also setting a higher standard of security for the software purchased by the Government.

To keep our digital world safe, we are supporting efforts to build a strong cyber workforce that is ready to meet this moment. My Administration is committed to investing in the next generation of cybersecurity experts and opening up more opportunities for Americans to pursue a cyber-based career. We have invested in infrastructure projects across the country, where America's workers are building semiconductors and making our electric grids more resilient to cyber threats. We also released a National Cyber Workforce and Education Strategy focused on giving more Americans access to the skills and education needed to pursue good-paying jobs in the cyber field. We have made the Federal Government a model for that work by transitioning the hiring process for cyber positions in the Federal Government to be skills-based—focusing on required skills and removing unnecessary degree requirements. We launched the “Service for America” campaign with a recruiting and hiring sprint to connect more people to cyber jobs and fill critical vacancies. And we are working with academia and the public and private sectors to grow the national cyber workforce by providing high-quality training, scholarships, paid internships, and Registered Apprenticeships.

My Administration is ensuring that America leads the world in cybersecurity, and we are working with our international partners to combat cyber threats. We are convening the nearly 70 member countries and international organizations of the International Counter Ransomware Initiative launched by my Administration to address the scourge of ransomware at both an operational and a policy level. We are working closely with allies and partners to bolster our cyber defense so that we can communicate and support one another in response to cyberattacks. And we have established cybersecurity goals that are rooted in protecting our shared democratic values.

During National Cybersecurity Month, we recognize the important role that cybersecurity plays in keeping Americans safe, protecting our institutions, and upholding our democracy. We honor all of the cybersecurity professionals, who are working tirelessly to defend our digital world. And we look forward to all that we will accomplish as we work together to advance cybersecurity.

NOW, THEREFORE, I, JOSEPH R. BIDEN JR., President of the United States of America, by virtue of the authority vested in me by the Constitution and the laws of the United States, do hereby proclaim October 2024 as National Cybersecurity Month. I call upon the people, businesses, and institutions of the United States to recognize and act on the importance of cybersecurity and to observe National Cybersecurity Month in support of our national security and resilience. I also call upon businesses and institutions to take action to better protect the American people against cyber threats and create new opportunities for American workers to pursue good-paying cyber jobs. Americans can also take immediate action to better protect themselves by turning on multifactor authentication, updating software on computers and devices, using strong passwords, and remaining cautious of clicking on links that look suspicious.

IN WITNESS WHEREOF, I have hereunto set my hand this thirtieth day of September, in the year of our Lord two thousand twenty-four, and of the Independence of the United States of America the two hundred and forty-ninth.

[FR Doc. 2024-22991

Filed 10-2-24; 8:45 am]

Billing code 3395-F4-P